DEPARTMENT OF LABOR

Employment and Training Administration

[TA-W-41,155 and TA-W-41,155A]

International Steel Wool Corp., a Subsidiary of F.H. Bonn Co., Springfield, OH; International Steel Wool Corp., a Subsidiary of F.H. Bonn Co., Headquarters Office, Mission, TX; Amended Certification Regarding Eligibility To Apply for Worker Adjustment Assistance

In accordance with section 223 of the Trade Act of 1974 (19 U.S.C. 2273) the Department of Labor issued a Notice of Certification Regarding Eligibility to Apply for Worker Adjustment Assistance on April 30, 2002, applicable to workers of International Steel Wool Corp., a Subsidiary of F.H. Bonn Co., Springfield, Ohio. The notice was published in the Federal Register on May 17, 2002 (67 FR 35143).

At the request of the company, the Department reviewed the certification for workers of the subject firm. The company reports that worker separations occurred at the Headquarters Office located in Mission, Texas. The workers at the Mission, Texas location provide administrative services supporting the production of annealed steel wool at the Springfield, Ohio facility of the subject firm.

Based on these findings, the Department is amending the certification to include workers of International Steel Wool Corp., Headquarters Office, Mission, Texas.

The intent of the Department's certification is to include all workers of International Steel Wool Corp. A subsidiary of F. H. Bonn Co., who were adversely affected by increased imports.

The amended notice applicable to TA-W-41,155 is hereby issued as follows:

All workers of International Steel Wool Corp., Springfield, Ohio (TA-W-41,155), and International Steel Wool Corp., Headquarters Office, Mission, Texas (TA-W-41,155A), who became totally or partially separated from employment on or after March 25, 2001, through April 30, 2004, are eligible to apply for adjustment assistance under section 223 of the Trade Act of 1974.

Signed at Washington, DC, this 12 day of August, 2002.
Linda G. Poole,
Certifying Officer, Division of Trade Adjustment Assistance.

[FR Doc. 02-21095 Filed 8-19-02; 8:45 am]

BILLING CODE 4510-30-P